DEPARTMENT OF LABOR

Employment and Training Administration

Notice of a Change in Status of an Extended Benefit (EB) Period for Oregon.

AGENCY: Employment and Training Administration, Labor.

ACTION: Notice.

SUMMARY: This notice announces a change in benefit period eligibility under the EB Program for Oregon.

The following change has occurred since the publication of the last notice regarding the State's EB status:

• Based on data reported by the Bureau of Labor Statistics on January 27, 2009, Oregon's 3-month seasonally adjusted total unemployment rate rose to 8.1 percent, exceeding the 8 percent threshold. This causes the State to be triggered “on” to a high unemployment period (HUP) in the EB program period beginning February 15, 2009.

Information for Claimants

The duration of benefits payable in the EB Program, and the terms and conditions on which they are payable, are governed by the Federal-State Extended Unemployment Compensation Act of 1970, as amended, and the operating instructions issued to the states by the U.S. Department of Labor. In the case of a state beginning a HUP period, the State Workforce Agency will furnish a written notice of potential entitlement to each individual who may be eligible for increased benefits due to the HUP (20 CFR 615.13(c)(1)). Persons who wish to inquire about their rights under the program, should contact their state workforce agency.

FOR FURTHER INFORMATION CONTACT: Scott Gibbons, U.S. Department of Labor, Employment and Training Administration, Office of Workforce Security, 200 Constitution Avenue NW., Frances Perkins Bldg., Room S-4231, Washington, DC 20210, telephone number (202) 693-3008 (this is not a toll-free number) or by email: gibbons.scott@dol.gov.

Signed in Washington, DC, this 13th day of February 2009.
Douglas F. Small,
Deputy Assistant Secretary, Employment and Training Administration.

[FR Doc. E9-3785 Filed 2-20-09; 8:45 am]

BILLING CODE 4510-FW-P